DEPARTMENT OF TRANSPORTATION

Federal Aviation Administration

14 CFR Part 39

[Docket No. FAA-2021-0871; Project Identifier MCAI-2020-01581-A]

RIN 2120-AA64

Airworthiness Directives; Vulcanair S.p.A. Airplanes

AGENCY: Federal Aviation Administration (FAA), DOT.

ACTION: Notice of proposed rulemaking (NPRM).

SUMMARY: The FAA proposes to adopt a new airworthiness directive (AD) for certain Vulcanair S.p.A. Models P.68C, P.68C-TC, P.68 “OBSERVER,” P.68 OBSERVER 2, P.68R, and P.68TC OBSERVER airplanes. This proposed AD was prompted by mandatory continuing airworthiness information (MCAI) originated by an aviation authority of another country to identify and correct an unsafe condition on an aviation product. The MCAI describes the unsafe condition as a damaged stabilator trim control cable. This proposed AD would require inspecting the stabilator trim control cables and replacing if necessary. This proposed AD would also require reporting the results of each inspection to Vulcanair S.p.A. The FAA is proposing this AD to address the unsafe condition on these products.

DATES: The FAA must receive comments on this proposed AD by November 22, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12 140, 1200 New Jersey Avenue SE, Washington, DC 20590.

• Hand Delivery: Deliver to Mail address above between 9 a.m. and 5 p.m., Monday through Friday, except Federal holidays.

For service information identified in this NPRM, contact Vulcanair S.p.A., Fulvio Oloferni, via Giovanni Pascoli, 7, Naples, 80026, Italy; phone: +39 081 5918 135; email: airworthiness@vulcanair.com; website: www.vulcanair.com. You may view this service information at the FAA, Airworthiness Products Section, Operational Safety Branch, 901 Locust, Kansas City, MO 64106. For information on the availability of this material at the FAA, call (816) 329-4148.

Examining the AD Docket

You may examine the AD docket at https://www.regulations.gov by searching for and locating Docket No. FAA-2021-0871; or in person at Docket Operations between 9 a.m. and 5 p.m., Monday through Friday, except Federal holidays. The AD docket contains this NPRM, the MCAI, any comments received, and other information. The street address for Docket Operations is listed above.

FOR FURTHER INFORMATION CONTACT: Gregory Johnson, Aviation Safety Engineer, FAA, General Aviation & Rotorcraft Section, International Validation Section, 901 Locust, Room 301, Kansas City, MO 64106-2641; phone: (720) 626-5462; email: gregory.johnson@faa.gov.

SUPPLEMENTARY INFORMATION:

Comments Invited

The FAA invites you to send any written relevant data, views, or arguments about this proposal. Send your comments to an address listed under the ADDRESSES section. Include “Docket No. FAA-2021-0871; Project Identifier MCAI-2020-01581-A” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Gregory Johnson, Aviation Safety Engineer, FAA, General Aviation & Rotorcraft Section, International Validation Section, 901 Locust, Room 301, Kansas City, MO 64106-2641. Any commentary that the FAA receives which is not specifically designated as CBI will be placed in the public docket for this rulemaking.

Background

The European Union Aviation Safety Agency (EASA), which is the Technical Agent for the Member States of the European Union, has issued EASA AD 2020-0262, dated November 30, 2020 (referred to after this as “the MCAI”), to address an unsafe condition on certain serial-numbered Vulcanair S.p.A. Models P.68R, P.68C, P.68C-TC, P.68 “OBSERVER,” P.68 “OBSERVER 2,” and P.68TC “OBSERVER” airplanes. The MCAI states:

Two occurrences have been reported of finding a damaged stabilator trim control cable connected to the stabilator trim actuator assembly, mounted on fuselage frame No.16. The related technical investigation concluded that the cause of the damage is a design issue.

This condition, if not detected and corrected, could lead to failure of an affect [sic] part, preventing trim surface control (remaining in the last position), possibly resulting in reduced control of the aeroplane.

To address this potential unsafe condition, and pending a design improvement, Vulcanair published the [service bulletin] SB, to provide inspection instructions for detecting damage.

For the reasons described above, this [EASA] AD requires repetitive inspections of the affected parts, and, depending on findings, replacement.

This [EASA] AD is considered to be an interim action and further [EASA] AD action may follow.

You may examine the MCAI in the AD docket at https://www.regulations.gov by searching for and locating Docket No. FAA-2021-0871.

Related Service Information Under 1 CFR Part 51

The FAA reviewed Vulcanair S.p.A. P.68 Variants Mandatory Service Bulletin No. 263, dated October 20, 2020. The service information contains procedures for repetitively inspecting each stabilator trim control cable part number 5.6067-1, 5.6161-1, 5.6171-1, 5.6231-2, or 5.6231-4 for broken wires and replacing the cable if necessary. This service information is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and service information referenced above. The FAA is issuing this NPRM after determining the unsafe condition described previously is likely to exist or develop on other products of the same type design.

Proposed AD Requirements

This proposed AD would require accomplishing the actions specified in the service information already described. This proposed AD would also require reporting inspection results to the manufacturer.

Interim Action

The FAA considers this proposed AD an interim action. The inspection reports that would be required by this proposed AD will enable the manufacturer to obtain better insight into the nature, cause, and extent of the damage, and eventually to develop final action to address the unsafe condition. Once final action has been identified, the FAA might consider further rulemaking.

Costs of Compliance

The FAA estimates that this AD, if adopted as proposed, would affect 127 airplanes of U.S. registry.

The FAA estimates the following costs to comply with this proposed AD:

Estimated Costs
Action | Labor cost | Parts cost | Cost per product | Cost on U.S. operators
Inspection | 0.50 work-hour × $85 per hour = $42.50 per inspection cycle | $0 | $42.50 per inspection cycle | $5,397.50 per inspection cycle.
Report | 1 work-hour × $85 per hour = $85 per reporting cycle | 0 | $85 per inspection cycle | $10,795 per inspection cycle.

The FAA estimates the following costs to do any replacements that would be required based on the results of the proposed inspection. The FAA has no way of determining the number of airplanes that might need this replacement:

On-Condition Costs
Action | Labor cost | Parts cost | Cost per product
Replacement | 2 work-hours × $85 per hour = $170 | $340 | $510

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Vulcanair S.p.A.: Docket No. FAA-2021-0871; Project Identifier MCAI-2020-01581-A.

(a) Comments Due Date

The FAA must receive comments on this airworthiness directive (AD) by November 22, 2021.

(b) Affected ADs

None.

(c) Applicability

This AD applies to Vulcanair S.p.A. (Vulcanair) Models P.68C, P.68C-TC, P.68 “OBSERVER,” P.68 OBSERVER 2, P.68R, and P.68TC OBSERVER airplanes, serial numbers 333, 337 to 339 inclusive, 378, 379, and 383 and larger (except serial numbers 387 and 398), certificated in any category, with a stabilator trim control cable part number 5.6067-1, 5.6161-1, 5.6171-1, 5.6231-2, or 5.6231-4 installed.

(d) Subject

Joint Aircraft System Component (JASC) Code 2740, Stabilizer Control System.

(e) Unsafe Condition

This AD was prompted by a damaged stabilator trim control cable connected to the stabilator trim actuator assembly, mounted on fuselage frame No. 16. The FAA is issuing this AD to detect and address failure of a stabilator trim control cable, which could prevent trim surface control thereby leaving the cable remaining in the last position. The unsafe condition, if not addressed, could result in reduced control of the airplane.

(f) Compliance

Comply with this AD within the compliance times specified, unless already done.

(g) Required Actions

Before a stabilator trim control cable part number 5.6067-1, 5.6161-1, 5.6171-1, 5.6231-2, or 5.6231-4 accumulates more than 400 hours time-in-service (TIS) since first installation on an airplane or within 50 hours TIS after the effective date of this AD, whichever occurs later, and thereafter at intervals not to exceed 50 hours TIS, visually inspect the stabilator trim control cable for broken wires and replace the stabilator trim control cable before further flight if there is broken wire in a strand in accordance with steps 1 through 22 of Part 2 Work Procedure in Vulcanair S.p.A. P.68 Variants Mandatory Service Bulletin No. 263, dated October 20, 2020 (MSB 263).

(h) Reporting

Within 14 days after the initial inspection required by paragraph (g) of this AD or within 14 days after the effective date of this AD, whichever occurs later, report the results of the initial inspection to Vulcanair at continued.airworthiness@vulcanaair.com or at the address in paragraph (k)(3) of this AD. Thereafter, report the inspection results within 14 days after each inspection. Each report must include the following information:

(1) Owner/operator name, mailing address, phone number, and email address;

(2) Airplane model, serial number, and registration number;

(3) Airplane hours TIS at the time of the inspection;

(4) Stabilator trim control cable hours TIS at the time of the inspection;

(5) Date of the inspection;

(6) Inspection result (positive or negative); and

(7) A description of any non-conformity (damage).

(i) Special Flight Permit

Special flight permits are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD or email 9-AVS-AIR-730-AMOC@faa.gov.

(2) Before using any approved AMOC, notify your appropriate principal inspector, or lacking a principal inspector, the manager of the local flight standards district office/certificate holding district office.

(k) Related Information

(1) For more information about this AD, contact Gregory Johnson, Aviation Safety Engineer, FAA, General Aviation & Rotorcraft Section, International Validation Section, 901 Locust, Room 301, Kansas City, MO 64106-2641; phone: (720) 626-5462; email: gregory.johnson@faa.gov.

(2) Refer to European Union Aviation Safety Agency (EASA) AD 2020-0262, dated November 30, 2020, for more information. You may examine the EASA AD in the AD docket at https://www.regulations.gov by searching for and locating it in Docket No. FAA-2021-0871.

(3) For service information identified in this AD, contact Vulcanair S.p.A., Fulvio Oloferni, via Giovanni Pascoli, 7, Naples, 80026, Italy; phone: +39 081 5918 135; email: airworthiness@vulcanair.com; website: www.vulcanair.com. You may view this referenced service information at the FAA, Airworthiness Products Section, Operational Safety Branch, 901 Locust, Kansas City, MO 64106. For information on the availability of this material at the FAA, call (816) 329-4148.

Issued on October 1, 2021.
Lance T. Gant,
Director, Compliance & Airworthiness Division, Aircraft Certification Service.

[FR Doc. 2021-21938 Filed 10-7-21; 8:45 am]

BILLING CODE 4910-13-P